DEPARTMENT OF TRANSPORTATION

Federal Railroad Administration

[Docket Number FRA-2014-0125]

Petition for Waiver of Compliance

In accordance with Part 211 of Title 49 Code of Federal Regulations (CFR), this document provides the public notice that by a document dated December 10, 2014, Western New York & Pennsylvania Railroad (WNYP) has petitioned the Federal Railroad Administration (FRA) for a waiver of compliance from certain provisions of the Federal railroad safety regulations contained at 49 CFR part 223, Safety Glazing Standards—Locomotives, Passenger Cars and Cabooses. FRA assigned the petition Docket Number FRA-2014-0125.

Specifically, WNYP requests a waiver from the glazing requirements at 49 CFR 223.9, Requirements for new or rebuilt equipment, for a steel bay window caboose, identified as Car Number WNYP 300.

WNYP states that this caboose will be used infrequently for such things as special occasions, historical events, and Santa trains. This caboose would not be used in regular freight operations or in interchange service. Although many of the original side windows have been blanked over with steel sheeting, the bay and end windows remain. These windows are equipped with tempered glass, which is not of FRA Type II standards.

WNYP further states that this caboose will be serviced, inspected, and maintained in compliance with other applicable regulations. The caboose was upgraded sometime during its life with modern 70-ton roller bearing trucks. The caboose is currently housed in Olean, NY.

In addition, WNYP states that the Caboose WNYP 300 was built in 1960 and is more than 50 years of age from its original construction date and, therefore, is restricted per 49 CFR 215.203(a). WNYP's petition also includes a request for Special Approval in accordance with 49 CFR 215.203(c).

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 23, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on January 28, 2015.
Ron Hynes,
Director, Office of Technical Oversight.

[FR Doc. 2015-02160 Filed 2-3-15; 8:45 am]

BILLING CODE 4910-06-P